ENVIRONMENTAL PROTECTION AGENCY

40 CFR Parts 141 and 142

[FRL-7413-9]

RIN 2040-AD06

National Primary Drinking Water Regulations: Minor Revisions to Public Notification Rule, Consumer Confidence Report Rule and Primacy Rule

AGENCY: Environmental Protection Agency.

ACTION: Final rule.

SUMMARY: The Environmental Protection Agency (EPA) is finalizing changes to the health effects language for di(2-ethylhexyl) adipate (DEHA) and di(2-ethylhexyl) phthalate (DEHP) in the Public Notification (PN) Rule and the Consumer Confidence Report (CCR) Rule under the Safe Drinking Water Act (SDWA). Today's rule also makes minor corrections to Appendix A of the CCR Rule. These changes include: correcting drinking water source information listed for copper, changing the placement of regulatory and health effects information for disinfection by-products (i.e., bromate, chloramines, chlorite, chlorine, and chlorine dioxide), and correcting the reference “chloride dioxide” to “chlorine dioxide.” The Agency is also amending the listing for three contaminants (i.e., bromate, chlorite, and total trihalomethanes) to correct source information given in Appendix A. The appendix listed “by-product of chlorination,” a specific method of disinfection, as the major source for these contaminants in drinking water. The source information in Appendix A is being amended to include the more general term “by-product of drinking water disinfection” for these contaminants. In addition, the Agency is revising the Primacy Rule to remove regulations pertaining to the Administrator's authority to waive national primary drinking water regulations (NPDWRs) for Federally owned or operated public water systems. This authority was removed by Congress in the 1996 amendments to the Safe Drinking Water Act.

DATES: This regulation is effective December 27, 2002. For judicial review purposes, this final rule is promulgated as of 1:00 p.m. Eastern Time on November 27, 2002.

ADDRESSES: Applicable Federal Register notices, public comments received, the response to comments document, and other major supporting documents for this rulemaking are available for review at EPA's Water Docket, in the EPA Docket Center (EPA/DC), EPA West, Rm B102, 1301 Constitution Avenue, NW, Washington, DC. An electronic version of the public docket is available through EPA's electronic public docket and comment system, EPA Dockets, at http://www.epa.gov/edocket/.

FOR FURTHER INFORMATION CONTACT: Khanna Johnston at 1200 Pennsylvania Avenue, NW, (MC-4606M), Washington, DC 20460; by phone, 202-564-3842; or by e-mail: johnston.khanna@epa.gov. For general information, you may contact the Safe Drinking Water Hotline at 1-800-425-4791. The Safe Drinking Water Hotline is open from 9:00 a.m. to 5:30 p.m. Eastern Time, Monday through Friday, excluding Federal holidays.

SUPPLEMENTARY INFORMATION:

Table of Regulated Entities
Category | Examples of regulated entities
State/Local/Tribal governments | Publicly-owned Public Water Systems (PWSs), such as municipalities; county governments, water districts, water and sewer authorities, state governments, and other publicly-owned entities that deliver drinking water as an adjunct to their primary business (e.g., schools, State parks, roadside rest stops).
Industry | Privately-owned PWSs, such as private utilities, homeowner associations, and other privately-owned entities that deliver drinking water as an adjunct to their primary business (e.g., trailer parks, factories, retirement homes, day-care centers).
Federal government | Federally-owned PWSs, such as water systems on military bases.

This table is not intended to be exhaustive, but rather provides a guide for readers regarding entities likely to be regulated by this action. This table lists the types of entities that EPA is now aware could potentially be regulated by this action. Other types of entities not listed in this table could also be regulated. To determine whether your facility is regulated by this action, you should carefully examine the applicability criteria in §§ 141.151 and 141.201 of Title 40 of the Code of Federal Regulations (CFR). If you have questions regarding the applicability of this action to your particular facility, consult the person listed in the preceding FOR FURTHER INFORMATION CONTACT section.

How Can I Get Copies of This Document and Other Related Information?

EPA has established an official public docket for this action under Docket ID No. W-01-07. The official public docket consists of the documents specifically referenced in this action, any public comments received, and other information related to this action. Although a part of the official docket, the public docket does not include Confidential Business Information (CBI) or other information whose disclosure is restricted by statute. The official public docket is the collection of materials that is available for public viewing at EPA's Water Docket, in the EPA Docket Center (EPA/DC), EPA West, Room B102, 1301 Constitution Avenue, NW., Washington, DC. The EPA Docket Center Public Reading Room is open from 8:30 a.m. to 4:30 p.m. Eastern Time, Monday through Friday, excluding legal holidays. The telephone number for the Reading Room is 202-566-1744, and the telephone number for the Water Docket is 202-566-2426.

An electronic version of the public docket is available through EPA's electronic public docket and comment system, EPA Dockets. You may use EPA Dockets at http://www.epa.gov/edocket/ to view public comments, access the index listing of the contents of the official public docket, and to access those documents in the public docket that are available electronically. Once in the system, select “search,” then key in the appropriate docket identification number. Although not all docket materials may be available electronically, you may still access any of the publicly available docket materials through the docket facility identified in the previous paragraph or under the ADDRESSES section.

Acronyms Used in This Rule

CCR Consumer Confidence Report

CFR Code of Federal Regulations

CWS Community Water System

DBP Disinfection Byproduct

DEHA Di(2-ethylhexyl)adipate

DEHP Di(2-ethylhexyl)phthalate

EPA Environmental Protection Agency

FR Federal Register

MCL Maximum Contaminant Level

MCLG Maximum Contaminant Level Goal

NPDWR National Primary Drinking Water Regulation

NTTAA National Technology Transfer and Advancement Act

OMB Office of Management and Budget

PN Public Notification

PPM Parts Per Million

PWS Public Water System

RFA Regulatory Flexibility Act

SBREFA Small Business Regulatory Enforcement Fairness Act

SDWA Safe Drinking Water Act

TTHM Total Trihalomethanes

UMRA Unfunded Mandates Reform Act

U.S.C. United States Code

Table of Contents

I. Statutory Authority

II. Background

III. Administrative Requirements

A. Executive Order 12866—Regulatory Planning and Review

B. Executive Order 13045—Protection of Children From Environmental Health Risks and Safety Risks

C. Unfunded Mandates Reform Act

D. Paperwork Reduction Act

E. Regulatory Flexibility Act, as amended by the Small Business Regulatory Enforcement Fairness Act of 1996 (SBREFA), 5 U.S.C. 601 et. seq.

F. National Technology Transfer and Advancement Act

G. Executive Order 12898—Environmental Justice

H. Executive Order 13132—Federalism

I. Executive Order 13175—Consultation and Coordination with Indian Tribal Governments

J. Executive Order 13211—Actions Concerning Regulations that Significantly Affect Energy Supply, Distribution, or Use

K. Congressional Review Act

L. Plain Language Directive

M. Administrative Procedure Act

I. Statutory Authority

The purpose of this rulemaking is to finalize the EPA's proposed modifications to Minor Revisions of the Public Notification Rule and Consumer Confidence Report Rule and to revise the Primacy Rule to remove an outdated authority. The Safe Drinking Water Act (SDWA) (section 1414(c)), as amended in 1996, mandated that EPA revise its existing regulations governing public notification. When a violation occurs, public water systems must provide information to their consumers on the potential health effects from exposure to the contaminant in question.

This public notification is an integral part of public health protection and consumer right-to-know provisions of the SDWA (section 1414), as amended in 1996. EPA issued revised public notification regulations in May 2000, that set requirements for public water systems to follow with respect to the form, manner, frequency, and content of a public notice. The revised Public Notification (PN) Rule (40 CFR part 141, subpart Q) provides specific health effects statements for each regulated contaminant that a public water system must provide its consumers in the event of a public notice.

SDWA (section 1414) requires community water systems to issue an annual water quality report to their customers. The report provides a snapshot of local drinking water quality, a list of contaminants found in the water, potential health effects of any contaminants found above Federal health standards, and measures being undertaken by the water system to protect the drinking water supply. As part of the Consumer Confidence Report (CCR) Rule (40 CFR part 141, subpart O), CWSs must provide a statement concerning the health effects of contaminants found at levels that violate the Federal health standard. SDWA also requires States to meet set regulations for implementation and enforcement authority of national primary drinking water regulations as specified in section 1413 and the Primacy Rule (40 CFR part 142).

II. Background

On May 14, 1999, EPA published proposed revisions to the PN Rule for public comment. In this rulemaking EPA proposed to use the same brief health effects language for the PN Rule as EPA had recently adopted in the Consumer Confidence Report (CCR) Rule (63 FR 44511, August 19, 1998). This language is now codified at 40 CFR part 141, subpart O, appendix A. As a result, the PN proposal contained the CCR health effects language for di(2-ethylhexyl)adipate (DEHA) and di(2-ethylhexyl)phthalate (DEHP). During the public comment period on the proposed PN Rule, the Chemical Manufacturers Association (now known as the American Chemistry Council) submitted comments questioning several aspects of the health effects language for DEHA and DEHP. This included references to “general toxic effects” for DEHA and the basis for characterizing DEHP as a human carcinogen.

EPA published the final PN Rule (65 FR 25981, May 4, 2000) in May 2000. The American Chemistry Council (ACC) filed a petition in the DC Court of Appeals for review of the PN Rule, based on the DEHA and DEHP health effects language. In reexamining the ACC comments on the PN rule, EPA determined that changes to the health effects language for these contaminants in both the PN and CCR Rules would be appropriate. In a settlement agreement with ACC, EPA agreed to propose, and subsequently did propose, changes to the health effects language for these two contaminants. EPA accepted comment on the health effects language specific only to DEHA and DEHP. EPA also used the proposed modifications as an opportunity to make and seek comment on other minor corrections to appendix A of the CCR Rule (66 FR 46930, September 7, 2001). The comments received were generally favorable, supporting the proposed changes. A copy of these comments and the response to comments document are available for review in the public docket. In view of the comments received and for the reasons set forth in the preamble to the September 7, 2001 proposal, today's rule amends 40 CFR part 141 to reflect the health effects language changes for DEHA and DEHP proposed on September 7, 2001.

EPA is also making several corrections to language in appendix A of the CCR Rule. These are as follows: “Leaching from wood preservatives” was incorrectly listed as a major source of copper in drinking water. This rule deletes “leaching from wood preservatives” from drinking water source information for copper. Regulatory and health effects information for the disinfection byproducts bromate, chloramines, chlorite, chlorine, and chlorine dioxide was incorrectly placed in the volatile organic contaminants section of appendix A. Today's action moves entries for these disinfection byproducts from their existing locations and places them in the inorganic contaminants section of appendix A. In addition, the entry for chlorine dioxide was inadvertently listed as “chloride dioxide.” This rule corrects this reference to read “chlorine dioxide.”

This rule also amends information listed for three contaminants (i.e., bromate, chlorite, and total trihalomethanes) to reference the more general term, “by-product of drinking water disinfection,” rather than “chlorination,” which is one specific method of disinfection. Finally, this rule deletes a provision in EPA's primacy regulations at 40 CFR 142.3(b)(3). This section pertains to the Administrator's former authority to waive national primary drinking water regulations (NPDWRs) for Federally owned or operated public water systems. This authority was removed by Congress in the 1996 amendments to the Safe Drinking Water Act (SDWA), and is no longer applicable. EPA determined for the latter two corrections in today's final rule that there is “good cause” for making these minor changes final without prior proposal and opportunity for comment, because these changes have no substantive impact and merely correct CFR text.

III. Administrative Requirements

A. Executive Order 12866—Regulatory Planning and Review

Under Executive Order 12866 (58 FR 51735, October 4, 1993), the Agency must determine whether the regulatory action is “significant” and therefore subject to Office of Management and Budget (OMB) review and the requirements of the Executive Order. The Order defines “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

It has been determined that this rule is not a “significant regulatory action” under the terms of Executive Order 12866 and is therefore not subject to OMB review.

B. Executive Order 13045—Protection of Children From Environmental Health Risks and Safety Risks

Executive Order 13045 (62 FR 19885, April 23, 1997) applies to any rule that: (1) is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency. This Rule is not subject to Executive Order 13045 because it is not economically significant as defined in Executive Order 12866. This rule makes minor changes to the Public Notification Rule, Consumer Confidence Report Rule, and Primacy Rule that do not change the regulatory burden.

C. Unfunded Mandates Reform Act

Title II of the Unfunded Mandates Reform Act of 1995 (UMRA), Public Law 104-4, establishes requirements for Federal agencies to assess the effects of their regulatory actions on State, local, and Tribal governments and the private sector. Under section 202 of the UMRA, EPA generally must prepare a written statement, including a cost-benefit analysis, for proposed and final rules with “Federal mandates” that may result in expenditures to State, local, and Tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted.

Before EPA establishes any regulatory requirements that may significantly or uniquely affect small governments, including Tribal governments, it must have developed under section 203 of the UMRA a small government agency plan. This plan must provide for notifying potentially affected small governments, enabling officials of affected small governments to have meaningful and timely input in the development of EPA regulatory proposals with significant Federal intergovernmental mandates, and informing, educating, and advising small governments on compliance with the regulatory requirements.

Today's rule contains no Federal mandates (under the regulatory provisions of Title II of the UMRA) for State, local, or Tribal governments or the private sector. The rule imposes no enforceable duty on any State, local or Tribal governments or the private sector. This rule does not change the costs to State, local, or Tribal governments as estimated in the final Public Notification Rule (65 FR 25981, May 4, 2000) and the final Consumer Confidence Report Rule (63 FR 44511, August 19, 1998), and does not change either the frequency of reports or the regulatory burden of public notification. Thus, today's rule is not subject to the requirements of sections 202 and 205 of the UMRA.

For the same reason, EPA has determined that this rule contains no regulatory requirements that might significantly or uniquely affect small governments. Thus today's rule is not subject to the requirements of section 203 of UMRA.

D. Paperwork Reduction Act

This action does not impose an information collection burden under the provisions of the Paperwork Reduction Act, 44 U.S.C. 3501 et seq. This rule makes minor changes to the Public Notification Rule, the Consumer Confidence Report Rule, and the Primacy Rule and does not change the frequency of reporting or the regulatory burden.

Burden means the total time, effort, or financial resources expended by persons to generate, maintain, retain, disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An Agency may not conduct or sponsor, and a person is not required to respond to a collection of information, unless it displays a currently valid Office of Management and Budget (OMB) control number. The OMB control numbers for EPA's regulations are listed in 40 CFR part 9 and 48 CFR chapter 15.

E. Regulatory Flexibility Act (RFA), as Amended by the Small Business Regulatory Enforcement Fairness Act of 1996 (SBREFA), 5 U.S.C 601 et. seq.

The Regulatory Flexibility Act (RFA) generally requires an agency to prepare a regulatory flexibility analysis of any rule subject to the notice-and-comment rulemaking requirement under the Administrative Procedure Act or any other statute unless the agency certifies that the rule will not have a significant economic impact on a substantial number of small entities. Small entities include small businesses, small organizations, and small government jurisdictions.

The RFA provides default definitions for each type of small entity. It also authorizes an agency to use alternative definitions for each category of small entity, “which are appropriate to the activities for the agency” after proposing the alternative definition(s) in the Federal Register and taking comment (5 U.S.C. secs. 601(3)—(5)). In addition to the above, to establish an alternative small business definition, agencies must consult with the Small Business Administration's Chief Counsel for Advocacy.

For purposes of assessing the impacts of today's rule on small entities, EPA considered small entities to be public water systems serving 10,000 or fewer persons. This is the cut-off level specified by Congress in the Safe Drinking Water Act Amendments of 1996 for small system flexibility provisions. In accordance with the RFA requirements, EPA proposed using this alternative definition in the Federal Register (63 FR 7620, February 13, 1998), requested public comment, consulted with the Small Business Administration, finalized this definition for the final CCR regulation, and expressed its intention to use the alternative definition for all future drinking water regulations (63 FR 44511, August 19, 1998). As stated in that final rule, the alternative definition is applied to this regulation as well.

After considering the economic impacts of today's final rule on small entities, I certify that this action will not have a significant economic impact on a substantial number of small entities. This rule makes minor changes to the Public Notification Rule, the Consumer Confidence Report Rule, and the Primacy Rule and imposes no additional enforceable duty on any State, local or Tribal governments or the private sector. It does not change either the frequency of reports or the regulatory burden of public notification.

F. National Technology Transfer and Advancement Act

As noted in the proposed rule, section 12(d) of the National Technology Transfer and Advancement Act of 1995 (NTTAA), Public Law 104-113, section 12(d) (15 U.S.C. 272 note), directs EPA to use voluntary consensus standards in its regulatory activities unless to do so would be inconsistent with applicable law or otherwise impractical. Voluntary consensus standards are technical standards (e.g., material specifications, test methods, sampling procedures, and business practices) that are developed or adopted by voluntary consensus standards bodies. The NTTAA directs EPA to provide Congress, through OMB, explanations when the Agency decides not to use available and applicable voluntary consensus standards.

This rule does not involve technical standards. Therefore, EPA did not consider the use of any voluntary consensus standards.

G. Executive Order 12898—Environmental Justice

Executive Order 12898 establishes a Federal policy for incorporating Environmental Justice into Federal agency missions by directing agencies to identify and address disproportionately high and adverse human health or environmental effects of its programs, policies, and activities on minority and low-income populations. Today's rule makes minor changes to the Consumer Confidence Report Regulation, the Public Notification Regulation, and the Primacy Rule and does not alter the basic regulatory standards in those regulations. The Agency considered Environmental Justice related issues concerning the potential impacts of Public Notification (PN) during development of the Public Notification Rule and Consumer Confidence Report (CCR) Rule. In the May 4, 2000, PN Rule (65 FR 25981), EPA concluded that the PN requirements would be beneficial to low-income and minority communities. In the CCR Rule (63 FR 44511, August 19, 1998), EPA determined that provisions in that regulation would be beneficial to low-income and minority communities, particularly the provision requiring a good faith effort to reach non-bill-paying customers.

H. Executive Order 13132—Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule does not have federalism implications. It will not have substantial direct effects on the States, on the relationship between the national government and the States, or on the distribution of power and responsibilities among the various levels of government, as specified in Executive Order 13132. Today's rule makes minor changes to the Consumer Confidence Report Rule, the Public Notification Rule, and the Primacy Rule. Thus, Executive Order 13132 does not apply to this rule.

Nevertheless, in the spirit of Executive Order 13132, and consistent with EPA policy to promote communications between EPA and State and local governments, EPA specifically solicited comment on the proposed rule from State and local officials. We did not receive any comments on Executive Order 13132.

I. Executive Order 13175—Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This final rule does not have Tribal implications. It will not have substantial direct effects on Tribal governments, on the relationship between the Federal government and Indian tribes, or on the distribution of power and responsibilities between the Federal government and Indian tribes, as specified in Executive Order 13175. Today's rule makes minor changes to the Consumer Confidence Report Rule, the Public Notification Rule, and the Primacy Rule. Thus, Executive Order 13175 does not apply to this rule.

Nevertheless, in the spirit of Executive Order 13175, and consistent with EPA policy to promote communications between EPA and tribal governments, EPA specifically solicited comment on the proposed rule from tribal officials. We did not receive any comments on Executive Order 13175.

J. Executive Order 13211—Actions Concerning Regulations That Significantly Affect Energy Supply, Distribution, or Use

This rule is not subject to Executive Order 13211, “Actions Concerning Regulations That Significantly Affect Energy Supply, Distribution, or Use” (66 FR 28355, May 22, 2001), because it is not a significant regulatory action under Executive Order 12866.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective on December 27, 2002.

L. Plain Language Directive

Executive Order 12866 encourages agencies to write their rules in plain language. Readable regulations help the public find requirements quickly and understand them easily. They increase compliance, strengthen enforcement, and decrease mistakes, frustration, phone calls, appeals, and distrust of government. EPA made every effort to write this preamble and both the PN and CCR Rules in a clear and concise manner.

M. Administrative Procedure Act

Section 553 of the Administrative Procedures Act, 5 U.S.C. 553(b)(B), provides that, when an agency for good cause finds that notice and public procedure are impracticable, unnecessary, or contrary to the public interest, the agency may issue a rule without providing prior notice and an opportunity for public comment. EPA is publishing a number of minor corrections to appendix A of the CCR Rule, 40 CFR part 141, subpart O, two of which were not originally included in the September 7, 2001 proposal. Appendix A lists “major sources in drinking water” of regulated contaminants. EPA incorrectly listed “by-product of drinking water chlorination,” a specific method of disinfection (63 FR 69410, December 16, 1998), for two of these contaminants, rather than using the more general term “by-product of drinking water disinfection.” As a result, today's rule amends the table (Appendix A) to correct the “major sources” information for bromate, chlorite, and total trihalomethanes (TTHMs). This will make the listed “major sources” of these contaminants the same as haloacetic acids (HAA) in the table. Today's rule also deletes § 142.3(b)(3). This section pertains to the Administrator's former authority to waive national primary drinking water regulations (NPDWRs) for Federally owned or operated public water systems. This authority was removed in the 1996 amendments to the Safe Drinking Water Act (SDWA), and is no longer applicable. EPA has determined that for these corrections there is “good cause” for making these rule changes final without prior proposal and opportunity for comment because these rule changes have no substantive impact and merely correct informational CFR text or remove outdated text. Thus, notice and public procedures are unnecessary. EPA finds that this constitutes “good cause” under 5 U.S.C. 553(b)(B).

List of Subjects

40 CFR Part 141

Environmental protection, Chemicals, Indians-lands, Intergovernmental relations, Radiation protection, Reporting and recordkeeping requirements, Water supply.

40 CFR Part 142

Administrative practice and procedure, Chemicals, Indians-lands, Radiation protection, Reporting and recordkeeping requirements, Water supply.

Dated: November 20, 2002.
Christine Todd Whitman,
Administrator.

For the reasons set out in the preamble, 40 CFR parts 141 and 142 are amended as follows:

PART 141—[AMENDED]

1. The authority citation for part 141 continues to read as follows:

Authority: 42 U.S.C 300f, 300g-1, 300g-2, 300g-3, 300g-4, 300g-5, 300g-6, 300j-4, 300j-9, and 300j-11.

Subpart O—[Amended]

2. Appendix A to Subpart O is amended

a. Under the heading “Inorganic contaminants” by adding in alphabetical order entries for: “Bromate (ppb)”, “Chloramines (ppm)”, “Chlorine (ppm)”, “Chlorine dioxide (ppb)”, and “Chlorite (ppm)”.

b. Under the heading “Inorganic contaminants” by revising the entry for “Copper (ppm)”.

c. Under the heading “Synthetic organic contaminants including pesticides and herbicides” by revising entries for “Di(2-ethylhexyl) adipate (ppb)' and “Di(2-ethylhexyl) phthalate (ppb)”.

d. Under the heading “Volatile organic contaminants” by removing entries for: “Bromate (ppb)”, “Chloramines (ppm)”, “Chlorine (ppm)”, “Chlorite (ppm)”, and “Chloride dioxide (ppb)”.

e. Under the heading “Volatile organic contaminants” by revising the entry for “TTHMs [Total trihalomethanes] (ppb)”.

The revisions and additions read as follows:

Appendix A to Subpart O of Part 141—Regulated Contaminants

Contaminant (units) | Traditional MCL in mg/L | To convert for CCR, multiply by | MCL in CCR units | MCLG | Major sources in drinking water | Health effects language
* * * * * * *
Inorganic contaminants:
* * * * * * *
Bromate (ppb) | .010 | 1000 | 10 | 0 | By-product of drinkig water disinfection | Some people who drink water of containing bromate in excess of the MCL over many years may have an increased risk of getting cancer.
* * * * * * *
Chloramines (ppm) | MRDL=4 |  | MRDL=4 | MRDLG=4 | Water additive used to control microbes | Some people who use water containing chloramines well in excess of the MRDL could experience irritating effects to their eyes and nose. Some people who drink water containing chloramines well in excess of the MRDL could experience stomach discomfort or anemia.
Chlorine (ppm) | MRDL=4 |  | MRDL=4 | MRDLG=4 | Water additive used to control microbes | Some people who use water containing chlorine well in excess of the MRDL could experience irritating effects to their eyes and nose. Some people who drink water containing chlorine well in excess of the MRDL could experience stomach discomfort.
Chlorine dioxide (ppb) | MRDL=.8 | 1000 | MRDL=800 | MRDLG=800 | Water additive used to control micorbes | Some infants and young children who drink water chlorine dioxide in excess of the MRDL could experience nervous system effects. Similar effects may occur in fetuses of pregnant women who drink water containing chlorine dioxide in excess of the MRDL. Some people may experience anemia.
Chlorite (ppm) | 1 |  | 1 | 0.8 | By-product of drinking water disinfection | Some infants and young children who drink water containing chlorite in excess of the MCL could experience nervous system effects. Similar effects may occur in fetuses of pregnant women who drink water containing chlorite in excess of the MCL. Some people may experience anemia.
* * * * * * *
Copper (ppm) | AL=1.3 |  | AL=1.3 | 1.3 | Corrosion of household plumbing systems; Erosion of natural deposits | Copper is an essential nutrient, but some people who drink water containing copper in excess of the action level over a relatively short amount of time could experience gastrointestinal distress. Some people who drink water containing copper in excess of the action level over many years could suffer liver or kidney damage. People with Wilson's disease should consult their personal doctor.
* * * * * * *
Synthetic organic contaminants including pesticides and herbicides:
* * * * * * *
Di(2-ethylhexyl) andipate (ppb) | .4 | 1000 | 400 | 400 | Discharge from chemical factories | Some people who drink water containing di(2-ethylhexyl) adipate well in excess of the MCL over many years could experience toxic effects such as weight loss, liver enlargement or possible reproductive difficulties.
Di(2-ethylhexyl) phthalate (ppb) | .006 | 1000 | 6 | 0 | Discharge from rubber and chemical factories | Some people who drink water containing di(2-ethylhexyl) phthalate well in excess of the MCL over many years may have problems with their liver, or experience reproductive difficulties, and may have an increased risk of getting cancer.
* * * * * * *
Volatile organic contaminants:
* * * * * * *
TTHMs [Total trihalomethanes] (ppb) | 0.10/.080 | 1000 | 100/80 | N/A | By-product of drinking water disinfection | Some people who drink water containing trihalomethanes in excess of the MCL over many years may experience problems with their liver, kidneys, or central nervous systems, and may have an increased risk of getting cancer.

Subpart Q—[Amended]

3. Appendix B to Subpart Q of Part 141 is amended under E. by revising entries 33 for “Di(2-ethylhexyl) adipate” and 34 for “Di(2-ethylhexyl) phthalate” to read as follows:

Appendix B to Subpart Q of Part 141—Standard Health Effects Language for Public Notification

Contaminant (units) | MCLG ¹ (mg/l) | MCL ² (mg/l) | Standard health effects language for public notification
* * * * * * *
E. Synthetic Organic Chemicals (SOCs)
* * * * * * *
33. Di(2-ethylhexyl) adipate | 0.4 | 0.4 | Some people who drink water containing di(2-ethylhexyl) adipate well in excess of the MCL over many years could experience toxic effects such as weight loss, liver enlargement or possible reproductive difficulties.
34. Di(2-ethylhexyl) phthalate | Zero | 0.006 | Some people who drink water containing di(2-ethylhexyl) phthalate well in excess of the MCL over many years may have problems with their liver, or experience reproductive difficulties, and may have an increased risk of getting cancer.

* * * * *

Appendix B—Endnotes

1. MCLG—Maximum contaminant level goal.

2. MCL—Maximum contaminant level.

* * * * *

PART 142—[AMENDED]

4. The authority citation for part 142 continues to read as follows:

Authority: 42 U.S.C. 300f, 300g-1, 300g-2, 300g-3, 300g-4, 300g-5, 300g-6, 300j-4, 300j­9, and 300j-11.

§ 142.3 [Amended]

5. Section 142.3 is amended by removing paragraph (b)(3).

[FR Doc. 02-30117 Filed 11-26-02; 8:45 am]

BILLING CODE 6560-50-P